ENVIRONMENTAL PROTECTION AGENCY

[FRL-9640-9]

Request for Public Comments on the List of Candidates for EPA's Science Advisory Board (SAB), Chemical Assessment Advisory Committee

AGENCY: Environmental Protection Agency.

ACTION: Notice.

SUMMARY: The U.S. Environmental Protection Agency (EPA) invites public comments on the list of candidates being considered for appointment to the EPA's Science Advisory Board (SAB) Chemical Assessment Advisory Committee (CAAC).

DATES: Comments should be submitted in time to arrive no later than March 21, 2012.

FOR FURTHER INFORMATION CONTACT: Members of the public wishing to obtain further information may contact the Dr. Suhair Shallal, the Designated Federal Officer (DFO) for the committee, by email at shallal.suhair@epa.gov or by telephone at 202-564-2057.

Background: The U.S. Environmental Protection Agency (EPA) Science Advisory Board (SAB) Staff Office announced in a Federal Register Notice (Vol. 76, No. 223, pp. 71561-62) published on November 18, 2011 that it was forming a new committee under the auspices of the SAB to provide advice to EPA through the chartered SAB regarding the development of IRIS Toxicological Reviews available on EPA's Integrated Risk Assessment System (IRIS). The SAB Staff Office sought public nominations of nationally and internationally recognized experts with knowledge in human health risk assessment and expertise in a range of disciplines including, but not limited to: public health; epidemiology; toxicology; modeling; biostatistics; and risk assessment. The SAB Staff Office hereby invites public comments on the list of candidates under consideration for the SAB Chemical Assessment Advisory Committee.

How To Submit Comments: Any interested person or organization may submit comments to Dr. Suhair Shallal, Designated Federal Officer, no later than March 21, 2012. Emailing comments (shallal.suhair@epa.gov) is the preferred mode of receipt. Please be advised that public comments are subject to release under the Freedom of Information Act.

Dated: February 22, 2012.
Vanessa T. Vu,
Director, EPA Science Advisory Board Staff Office.

[FR Doc. 2012-4841 Filed 2-28-12; 8:45 am]

BILLING CODE 6560-50-P